DEPARTMENT OF THE INTERIOR

Fish and Wildlife Service

Notice of Availability of the Draft Comprehensive Conservation Plan and Environmental Assessment for Maxwell National Wildlife Refuge, Maxwell, NM

AGENCY: Fish and Wildlife Service, Department of the Interior.

ACTION: Notice of availability.

SUMMARY: The U.S. Fish and Wildlife Service (Service) announces that a Draft Comprehensive Conservation Plan and Environmental Assessment (Draft CCP/EA) for the Maxwell National Wildlife Refuge is available for review and comment. This Draft CCP/EA was prepared pursuant to the National Wildlife Refuge System Administration Act of 1966, as amended by the National Wildlife Refuge System Improvement Act of 1997 (16 U.S.C. 668dd-668ee et seq), and the National Environmental Policy Act of 1969 (42 U.S.C. 4321-4370d). It describes how the Service intends to manage the refuge over the next 15 years. Compatibility determinations for several existing uses (farming, sport fishing, wildlife observation, photography, environmental education and interpretation) were re-evaluated, and are included in the draft plan. In addition, draft compatibility determinations for two new proposed uses (grazing and hunting) are also available for review and comment in the Draft CCP/EA.

DATES: Written comments must be received at the address below by February 21, 2006.

ADDRESSES: Send comments to Carol Torrez, Biologist/Natural Resource Planner, U.S. Fish and Wildlife Service, P.O. Box 1306, Albuquerque, New Mexico, 87103-1306, Telephone: (505) 248-6821, Fax: (505) 248-6874. Comments may also be submitted via electronic mail to: carol_torrez@fws.gov.

The draft CCP/EA is available on compact diskette or hard copy, and may be obtained by writing, telephoning, faxing, or e-mailing Carol Torrez at the above listed address. The draft CCP/EA will also be available for viewing and downloading online at http://www.fws.gov/southwest/refuges/plan/index.html.

FOR FURTHER INFORMATION CONTACT: Carol Torrez, Biologist/Natural Resource Planner, 505-248-6821 or Patty Hoban, Refuge Manager, 505-375-2331.

SUPPLEMENTARY INFORMATION: The National Wildlife Refuge System Administration Act of 1966, as amended by the National Wildlife Refuge System Improvement Act of 1997 (16 U.S.C. 668dd-668ee et seq) requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction on conserving wildlife and their habitats, the CCP identifies wildlife-dependent recreational opportunities available to the public, including opportunities for hunting, fishing, wildlife observation and photography, and environmental education and interpretation. We will review and update the CCP at least every 15 years in accordance with the National Wildlife Refuge System Administration Act of 1966, as amended by the National Wildlife Refuge System Improvement Act of 1997, and the National Environmental Policy Act of 1969.

Background

The Maxwell National Wildlife Refuge was established on August 24, 1965 by the authority of the Migratory Bird Conservation Act (16 U.S.C. 712d) “* * * for use as an inviolate sanctuary, or any other management purpose, for migratory birds.” Located in northeast New Mexico, the 3,699 acre Refuge is comprised of 2,300 acres of grassland, 907 acres of lakes (which are leased from Vermejo Conservancy District), 50 acres of wetlands, 39 acres of woodlots, 440 acres of croplands, several miles of irrigation canals, and approximately 10 acres of administrative lands. Most of the area was utilized for grazing and farming prior to acquisition. Current management efforts focus on farming to provide food for migrating and wintering waterfowl, maintaining biological diversity, preserving native grasslands and managing public use.

The Draft CCP/EA addresses a range of topics including habitat and wildlife management, public use opportunities, invasive species control, and administration and staffing for the refuge. Three alternatives for managing the refuge are proposed and evaluated in the EA. Each alternative describes a combination of habitat and public use management actions designed to achieve the refuge purposes, goals, and vision. The Service prefers Alternative B because it best achieves refuge purposes, vision, and goals; contributes to the Refuge System mission; addresses relevant issues and mandates; and is consistent with the principles of sound fish and wildlife management. The alternatives are briefly described below.

Alternative A is ‘no action' or continuance of current management. Under this alternative, management efforts would continue to focus on farming, invasive species control, and preservation of native grasslands. The public use program would remain at current levels, with fishing and wildlife observation being the main focus. Environmental education and interpretation would be accommodated on a case-by-case basis. No new recreational/hunting opportunities or facilities would be developed on the refuge. Refuge management programs would continue to be developed and implemented with little baseline biological information.

Alternative B is the proposed action. This alternative would implement a variety of habitat management techniques (prescribed burning, experimental grazing, and mechanical and chemical invasive species control methods) to encourage ecological integrity, promote native prairie restoration, control invasive plant species, and provide/enhance habitat for grassland birds and other resident wildlife. The farming program would continue to be emphasized. Inventory, monitoring, and research would increase. The public use program would increase and/or enhance educational and outreach activities, recreational opportunities (including continued fishing, wildlife observation, photography and consideration of hunting opportunities), community involvement, and facilities.

Alternative C proposes to manage Maxwell NWR as part of a complex with Las Vegas NWR and turn all farming efforts over to cooperative farmers. By transferring all farming activities to cooperative farmers and combining both refuge staffs, more time would potentially be made available for native grassland restoration, invasive species control, and maintenance of natural diversity. The prescribed fire program and comprehensive habitat monitoring and evaluation would be emphasized. The public use program would be similar to Alternative B.

None of the alternatives propose any acquisition or refuge boundary expansion.

Public Involvement

The draft CCP/EA is available for public review and comment for a period of 60 days. Copies of the document can be obtained as indicated in the ADDRESSES section. In addition, documents will be available for public inspection during normal business hours (8 a.m.-4:30 p.m.) at the Maxwell NWR Headquarters Office, 2 miles northwest of the town of Maxwell, New Mexico off I-25, and at the following libraries:

Fred Macaron Library, 600 Colbert Avenue, Springer, NM

Cimmaron Public Library, 356D E. 9th St., Cimmaron, NM

City of Raton Library, 244 Cook Avenue, Raton, NM

An open house/public meeting will be held at the Maxwell NWR Headquarters to receive comments on the Draft CCP/EA during the open comment period on January 25, 2006 from 11 a.m.-7 p.m. Special mailings, newspaper articles, and/or other media announcements will be used to inform the public of the date and time of the meeting.

Public comments are requested, considered, and incorporated throughout the planning process. After the review and comment period ends for this draft CCP/EA, comments will be analyzed by the Service and addressed in the Final CCP. All comments received from individuals, including names and addresses, become part of the official public record. Requests for such comments will be handled in accordance with the Freedom of Information Act and the Council on Environmental Quality's NEPA regulations [40 CFR 1506.6 (f)], and other Service and Departmental policies and procedures.

Dated: October 11, 2005.
Geoffrey L. Haskett,
Acting Regional Director, U.S. Fish and Wildlife Service, Albuquerque, New Mexico.

[FR Doc. E5-7773 Filed 12-22-05; 8:45 am]

BILLING CODE 4310-55-P